DEPARTMENT OF AGRICULTURE

Forest Service

Proposed Recreation Fee Sites

AGENCY: Forest Service, Agriculture (USDA).

ACTION: Notice.

SUMMARY: The Klamath National Forest is proposing to establish several recreation fee sites. Proposed recreation fees collected at the proposed recreation fee sites would be used for operation, maintenance, and improvement of the sites. An analysis of nearby recreation fee sites with similar amenities shows the proposed recreation fees that would be charged at the proposed recreation fee sites are reasonable and typical of similar recreation fee sites in the area.

DATES: If approved, the proposed recreation fee sites and proposed recreation fees would be established no earlier than six months following the publication of this notice in the Federal Register.

ADDRESSES: Klamath National Forest, Attention: Recreation Fees, 1711 South Main St., Yreka, CA 96097.

FOR FURTHER INFORMATION CONTACT: Kristian Schenk, Recreation Management Specialist, 530-925-0232, kristian.schenk@usda.gov.

SUPPLEMENTARY INFORMATION: The Federal Lands Recreation Enhancement Act (16 U.S.C. 6803(b)) requires the Forest Service to publish in the Federal Register a six-month advance notice of establishment of recreation fee sites. In accordance with Forest Service Handbook 2309.13, chapter 30, the Forest Service will publish the proposed recreation fee sites and proposed recreation fees in local newspapers and other local publications for public comment. Most of the proposed recreation fees would be spent where they are collected to enhance the visitor experience at the proposed recreation fee sites.

A proposed expanded amenity recreation fee of $15 per night would be charged for Orr Lake, Mt Ashland, O'Neil Creek, and Big Flat campgrounds during primary season; and a proposed expanded amenity recreation fee of $15 per night would be charged for Sarah Totten, Curly Jack, Tree of Heaven, and Indian Scotty campgrounds during shoulder season. A proposed expanded amenity recreation fee of $5 per extra vehicle would be charged for Sarah Totten, Curly Jack, Tree of Heaven, Indian Scotty, Kangaroo, and Juanita Lake campgrounds, as well as for Kangaroo yurts 1 and 2 and Tree of Heaven yurts 1 and 2.

A proposed expanded amenity recreation fee of $25 per night for double campsites would be charged for Orr Lake during primary season and for Tree of Heaven during shoulder season. A proposed expanded amenity recreation fee of $50 per night for groups up to 30 people would be charged for O'Neil Creek group campground during primary season and for Curly Jack and Sarah Totten group campgrounds during shoulder season. A proposed expanded amenity recreation fee of $65 per night for groups up to 50 people would be charged for Indian Scotty group campground during shoulder season. In addition, a proposed expanded amenity recreation fee of $75 per night during the primary season and $50 per night during the shoulder season would be charged for rental of Tree of Heaven yurts 1 and 2; and a proposed expanded amenity recreation fee of $75 per night during the primary season would be charged for the Kangaroo yurts 1 and 2.

A proposed standard amenity recreation fee of $5 per day per vehicle and $30 per year per vehicle would be charged at Juanita Lake, Tree of Heaven, Grouse Gap, Mt Ashland, Jones Beach, Kangaroo Lake, Lovers Camp, and Taylor Lake developed recreation sites. The Klamath National Forest Day Use and Annual Pass and the America the Beautiful—the National Parks and Federal Recreational Lands Pass would be honored at these standard amenity recreation fee sites.

Expenditures of recreation fees collected at the proposed recreation fee sites would enhance recreation opportunities, improve customer service, and address maintenance needs. Once public involvement is complete, the proposed recreation fee sites and proposed recreation fees will be reviewed by a Recreation Resource Advisory Committee prior to a final decision and implementation. Reservations for campgrounds and cabins can be made online at www.recreation.gov or by calling 877-444-6777. Reservations would cost $8.00 per reservation.

Keith Lannom,
Acting Associate Deputy Chief, National Forest System.

[FR Doc. 2024-18051 Filed 8-13-24; 8:45 am]

BILLING CODE 3411-15-P